DEPARTMENT OF ENERGY

10 CFR Part 430

[EERE-2016-BT-TP-0023]

RIN 1904-AD70

Energy Conservation Program: Test Procedure for Television Sets; Correction

AGENCY: Office of Energy Efficiency and Renewable Energy, Department of Energy.

ACTION: Final rule; correction.

SUMMARY: The U.S. Department of Energy (“DOE”) is correcting a final rule that appeared in the Federal Register on March 15, 2023. That document amended test procedures for television sets. This document corrects an amendatory error in that final rule.

DATES: Effective April 14, 2023.

FOR FURTHER INFORMATION CONTACT:

Mr. Jeremy Dommu, U.S. Department of Energy, Office of Energy Efficiency and Renewable Energy, Building Technologies Office, EE-2J, 1000 Independence Avenue SW, Washington, DC 20585-0121. Telephone: (202) 586-9870. Email: ApplianceStandardsQuestions@ee.doe.gov.

Ms. Celia Sher, U.S. Department of Energy, Office of the General Counsel, GC-33, 1000 Independence Avenue SW, Washington, DC 20585-0121. Telephone: (202) 287-6122. Email: celia.sher@hq.doe.gov.

SUPPLEMENTARY INFORMATION:

I. Background

DOE published a final rule in the Federal Register on March 15, 2023 (March 2023 Final Rule), amending the test procedure for television sets. 88 FR 16082. This correction addresses numbering errors in the amendatory language in that final rule.

The amendatory instructions in the March 2023 Final Rule amend § 430.3 by redesignating paragraphs (n) through (w) as paragraphs (o) through (x), respectively. 88 FR 16082, 16109. However, paragraph (p), which is being redesignated as (q) currently contains “Note 1 to paragraph (p)” and refers to “paragraphs (p)(1) through (9).” The amendatory instructions failed to revise this note to correctly refer to paragraph (q). Further, there is already another Note 1 within § 430.3 (see § 430.3(e)), so the numbering of these notes in § 430.3 was not properly sequenced, and the note in newly redesignated § 430.3(q) should have been numbered as Note 2.

II. Need for Correction

As published, the regulatory text in the March 2023 Final Rule may result in confusion due to incorrect section references. Because this final rule would simply correct errors in the text without making substantive changes in the March 2023 Final Rule, the changes addressed in this document are technical in nature.

III. Procedural Issues and Regulatory Review

DOE has concluded that the determinations made pursuant to the various procedural requirements applicable to the March 2023 Final Rule remain unchanged for this final rule technical correction. These determinations are set forth in the March 2023 Final Rule. 88 FR 16082, 16106-16109.

Pursuant to the Administrative Procedure Act, 5 U.S.C. 553(b), DOE determines that notice and prior opportunity for comment on this rule are unnecessary and contrary to the public interest. Neither the errors nor the corrections in this document affect the substance of the March 2023 Final Rule or any of the conclusions reached in support of the final rule. For these reasons, DOE also determines that there is good cause to waive the 30-day delay in effective date in 5 U.S.C. 553(d).

Correction

In FR Doc. 2023-03986, appearing on page 16109 in the Federal Register of Wednesday, March 15, 2023, the following corrections are made:

On page 16109, in the third column, correct amendatory instruction 4 by adding instruction 4.e. and correcting the regulatory text to read as follows:

4.e. In newly redesignated paragraph (q), removing Note 1 and adding Note 2.

§ 430.3 [Corrected]

* * * * *

(q) * * *

Note 2 to paragraph (q). The standards referenced in paragraphs (q)(1) through (9) are also available from ANSI. See paragraph (e) of this section.

* * * * *

Signing Authority

This document of the Department of Energy was signed on March 28, 2023, by Francisco Alejandro Moreno, Acting Assistant Secretary for Energy Efficiency and Renewable Energy, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on March 28, 2023.
Treena V. Garrett,
Federal Register Liaison Officer, U.S. Department of Energy.

[FR Doc. 2023-06753 Filed 4-3-23; 8:45 am]

BILLING CODE 6450-01-P